DEPARTMENT OF THE INTERIOR

Bureau of Land Management

[L14200000.BJ0000-LLNM915000-2009]

Notice of Filing of Plats of Survey, New Mexico and Oklahoma

AGENCY: Bureau of Land Management, Interior.

ACTION: Notice of filing of plats of survey.

SUMMARY: The plats of survey described below are scheduled to be officially filed in the New Mexico State Office, Bureau of Land Management (BLM), Santa Fe, New Mexico, 30 calendar days from the date of this publication.

SUPPLEMENTARY INFORMATION:

New Mexico Principal Meridian, New Mexico (NM)

The plat representing the dependent resurvey of a portion of the south boundary and subdivisional lines. The subdivision of Sections 32 and 33 and the metes and bounds survey of Tract 37, Township 1 South, Range 10 West of the New Mexico Principal Meridian, New Mexico, accepted February 3, 2009, for Group 1084 NM.

The plat in three sheets representing the dependent resurvey of a portion of the south boundary and subdivisional lines. The subdivision of Section 28 and the metes and bounds survey in Sections 28 and 33, Township 15 North, Range 1 East of the New Mexico Principal Meridian, New Mexico, accepted March 5, 2009, for Group 1065 NM.

The plat in two sheets representing the dependent resurvey of a portion of the subdivisional lines, Township 14 North, Range 1 East of the New Mexico Principal Meridian, New Mexico, accepted March 5, 2009, for Group 1065 NM.

The plat in seven sheets representing the dependent resurvey of a portion of the south boundary of Ojo del Espiritu Santo Grant, a portion of the north, south, and west boundaries of the township, a portion of the subdivisional lines and metes and bounds surveys in certain Sections Township 15 North, Range 1 West of the New Mexico Principal Meridian, New Mexico, accepted March 5, 2009, for Group 1065 NM.

The plat in two sheets representing the metes and bounds surveys of certain tract boundaries within the Ojo del Espiritu Santo Grant, Sandoval County, New Mexico, accepted March 5, 2009, for Group 1065 NM.

The plat in two sheets representing the dependent resurvey of a portion of the south boundary of the Ojo del Espiritu Santo Grant and portion of the subdivisional lines, Township 15 North, Range 2 West of the New Mexico Principal Meridian, New Mexico, accepted March 5, 2009, for Group 1065 NM.

The plat in two sheets representing the dependent resurvey of a portion of the south boundary of the Ute Mountain Indian Reservation (north boundary), the south boundary, a portion of the subdivisional lines, and the subdivision of Sections 6, 30 and 31 in Township 30 North, Range 15 West of the New Mexico Principal Meridian, New Mexico, accepted March 18, 2009, for Group 1076 NM.

The plat in three sheets representing the dependent resurvey of a portion of the south boundary of the Ute Mountain Indian Reservation (north boundary), the south and east boundary, a portion of the subdivisional lines and the subdivision of Sections 1, 2, 11, 12, 26, 27, 34 and 35 Township 30 North, Range 16 West of the New Mexico Principal Meridian, New Mexico, accepted March 18, 2009, for Group 1076 NM.

Indian Meridian, Oklahoma (OK)

The plat representing the dependent resurvey of a portion of the subdivisional lines, and the subdivision of Section 8, Township 23 North, Range 1 East of the Indian Meridian, Oklahoma, accepted January 23, 2009 for Group 152 OK.

The plat representing the dependent resurvey of a portion of the subdivisional lines, and the subdivision of Section 29, Township 22 North, Range 1 East of the Indian Meridian, Oklahoma, accepted March 3, 2009 for Group 181 OK.

The supplemental plat representing Township 10 North, Range 27 East, of the Indian Meridian, Oklahoma, accepted March 11, 2009.

Potter County, Texas (TX)

The plat representing a metes and bounds survey in Section 34, Block P MC, EL & RR Railway Co. Survey, Potter County, Texas, accepted February 5, 2009 for Group 9 TX.

FOR FURTHER INFORMATION CONTACT: These plats will be available for inspection in the New Mexico State Office, Bureau of Land Management, P.O. Box 27115, Santa Fe, New Mexico, 87502-0115. Copies may be obtained from this office upon payment of $1.10 per sheet. Contact Marcella Montoya at 505-438-7537, or Marcella_Montoya@nm.blm.gov, for assistance.

Robert A. Casias,
Chief, Cadastral Surveyor.

[FR Doc. E9-7275 Filed 3-31-09; 8:45 am]

BILLING CODE 4310-FB-P